DEPARTMENT OF COMMERCE

International Trade Administration

[A-570-008, C-570-009]

Calcium Hypochlorite From the People's Republic of China: Continuation of Antidumping Duty Order and Countervailing Duty Order

AGENCY: Enforcement and Compliance, International Trade Administration, Department of Commerce.

SUMMARY: As a result of the determinations by the Department of Commerce (Commerce) and the International Trade Commission (ITC) that revocation of the antidumping duty (AD) order and countervailing duty (CVD) orders on calcium hypochlorite from the People's Republic of China (China) would likely lead to continuation or recurrence of dumping, countervailable subsidies, and material injury to an industry in the United States, Commerce is publishing a notice of continuation of the AD and CVD orders.

DATES: Applicable July 1, 2020.

FOR FURTHER INFORMATION CONTACT: Rachel Greenberg, Office V, AD/CVD Operations, Enforcement and Compliance, International Trade Administration, U.S. Department of Commerce, 1401 Constitution Avenue NW, Washington, DC 20230; telephone: (202) 482-0652.

SUPPLEMENTARY INFORMATION:

Background

On January 30, 2015, Commerce published its AD order and CVD order on calcium hypochlorite from China.¹ On December 2, 2019, the ITC instituted,² and Commerce initiated,³ the first sunset reviews of the Orders, pursuant to section 751(c) of the Tariff Act of 1930, as amended (the Act). As a result of its review, Commerce determined that revocation of the Orders would likely lead to continuation or recurrence of dumping and countervailing subsidies and, therefore, notified the ITC of the magnitude of the margins and net countervailable subsidy rates likely to prevail should the Orders be revoked.⁴

¹ See Calcium Hypochlorite from the People's Republic of China: Antidumping Duty Order, 80 FR 5085 (January 30, 2015); and Calcium Hypochlorite from the People's Republic of China: Countervailing Duty Order, 80 FR 5082 (January 30, 2015) (collectively, Orders).

² See Calcium Hypochlorite from China: Institution of Five-Year Reviews, 84 FR 66002 (December 2, 2019).

³ See Initiation of Five-Year (Sunset) Reviews, 84 FR 65968 (December 2, 2019).

⁴ See Calcium Hypochlorite from the People's Republic of China: Final Results of the Expedited First Sunset Review of the Antidumping Duty Order, 85 FR 19439 (April 7, 2020), and accompanying Issues and Decision Memorandum; see also Calcium Hypochlorite from the People's Republic of China: Final Results of the Expedited First Sunset Review of the Countervailing Duty Order, 85 FR 19443 (April 7, 2020), and accompanying Issues and Decision Memorandum.

On June 23, 2020, the ITC published its determination, pursuant to sections 751(c) and 752(a) of the Act, that revocation of the Orders would likely lead to continuation or recurrence of material injury to an industry in the United States within a reasonably foreseeable time.⁵

⁵ See Calcium Hypochlorite from China, 85 FR 37690 (June 23, 2020).

Scope of the Orders

The product covered by the Orders is calcium hypochlorite, regardless of form (e.g., powder, tablet (compressed), crystalline (granular), or in liquid solution), whether or not blended with other materials, containing at least 10 percent available chlorine measured by actual weight. The scope also includes bleaching powder and hemibasic calcium hypochlorite.

Calcium hypochlorite has the general chemical formulation Ca(OCl)2, but may also be sold in a more dilute form as bleaching powder with the chemical formulation, Ca(OCl)2.CaCl2.Ca(OH)2.2H2O or hemibasic calcium hypochlorite with the chemical formula of 2Ca(OCl)2.Ca(OH)2 or Ca(OCl)2.0.5Ca(OH)2. Calcium hypochlorite has a Chemical Abstract Service (CAS) registry number of 7778-54-3, and a U.S. Environmental Protection Agency (EPA) Pesticide Code (PC) Number of 014701. The subject calcium hypochlorite has an International Maritime Dangerous Goods (IMDG) code of Class 5.1 UN 1748, 2880, or 2208 or Class 5.1/8 UN 3485, 3486, or 3487.

Calcium hypochlorite is currently classifiable under the subheading 2828.10.0000 of the Harmonized Tariff Schedule of the United States (HTSUS). The subheading covers commercial calcium hypochlorite and other calcium hypochlorite. When tableted or blended with other materials, calcium hypochlorite may be entered under other tariff classifications, such as 3808.94.5000 and 3808.99.9500, which cover disinfectants and similar products. While the HTSUS subheadings, the CAS registry number, the U.S. EPA PC number, and the IMDG codes are provided for convenience and customs purposes, the written description of the scope of the Orders is dispositive.

Continuation of the Orders

As a result of the determinations by Commerce and the ITC that revocation of the Orders would likely lead to a continuation or a recurrence of dumping and countervailable subsidies, as well as material injury to an industry in the United States, pursuant to section 751(d)(2) of the Act, Commerce hereby orders the continuation of the Orders.

U.S. Customs and Border Protection will continue to collect AD and CVD cash deposits at the rates in effect at the time of entry for all imports of subject merchandise. The effective date of the continuation of the Orders will be the date of publication in the Federal Register of this notice of continuation. Pursuant to section 751(c)(2) of the Act, Commerce intends to initiate the next five-year reviews of the Orders not later than 30 days prior to the fifth anniversary of the effective date of continuation.

Notification to Interested Parties

These five-year sunset reviews and this notice are in accordance with section 751(c) of the Act and published in accordance with section 777(i)(1) of the Act and 19 CFR 351.218(f)(4).

Dated: June 24, 2020.
Jeffrey I. Kessler,
Assistant Secretary for Enforcement and Compliance.

[FR Doc. 2020-14194 Filed 6-30-20; 8:45 am]

BILLING CODE 3510-DS-P